DEPARTMENT OF TRANSPORTATION

Federal Aviation Administration

14 CFR Part 39

[Docket No. 2000-SW-27-AD; Amendment 39-12028; AD 2000-24-21]

RIN 2120-AA64

Airworthiness Directives; Siam Hiller Holdings, Inc. Model UH-12, UH-12A, UH-12B, UH-12C, UH-12D, UH-12E, UH-12E-L, UH-12L, and UH-12L4 Helicopters

AGENCY: Federal Aviation Administration, DOT.

ACTION: Final rule.

SUMMARY: This amendment adopts a new airworthiness directive (AD), for Siam Hiller Holdings, Inc. (Hiller), formerly Rogerson Hiller Corporation, Model UH-12, UH-12A, UH-12B, UH-12C, UH-12D, UH-12E, UH-12E-L, UH-12L, and UH-12L4 helicopters, that requires replacing all undrilled-shank bolts at pivoting joints in the control system linkage with drilled-shank bolts and installing castellated nuts and cotter pins. This amendment is prompted by an accident caused by separation of the control system linkage of a Model UH-12E helicopter. The actions specified by this AD are intended to prevent separation of the control system attachments at pivoting points and subsequent loss of control of the helicopter.

DATES: Effective January 10, 2001.

The incorporation by reference of certain publications listed in the regulations is approved by the Director of the Federal Register as of January 10, 2001.

ADDRESSES: The service information referenced in this AD may be obtained from Hiller Aircraft Corporation, 3200 Imjin Road, Marina, California 93933-5101, telephone (408) 384-4500, fax (408) 384-3100. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jon Mowery, Aviation Safety Engineer, FAA, Los Angeles Aircraft Certification Office, Airframe Branch, 3960 Paramount Blvd., Lakewood, California 90712-4137, telephone (562) 627-5322, fax (562) 627-5210.

SUPPLEMENTARY INFORMATION: A proposal to amend part 39 of the Federal Aviation Regulations (14 CFR part 39) to include an airworthiness directive (AD) for Hiller Model UH-12, UH-12A, UH-12B, UH-12C, UH-12D, UH-12E, UH-12E-L, UH-12L, and UH-12L4 helicopters was published in the Federal Register on August 31, 2000 (65 FR 52958). That action proposed to require replacing all undrilled-shank bolts at the pivoting joints in the control system linkage with drilled-shank bolts and installing castellated nuts and cotter pins.

Interested persons have been afforded an opportunity to participate in the making of this amendment. No comments were received on the proposal or the FAA's determination of the cost to the public. The FAA has determined that air safety and the public interest require the adoption of the rule as proposed.

The FAA estimates that 500 helicopters of U.S. registry will be affected by this AD, that it will take approximately 24 work hours per helicopter to accomplish the required actions, and that the average labor rate is $60 per work hour. Required parts will cost approximately $150 per helicopter. Based on these figures, the total cost impact of the AD on U.S. operators is estimated to be $795,000.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-24-21 Siam Hiller Holdings, Inc.: Amendment 39-12028. Docket No. 2000-SW-27-AD.

Applicability: Model UH-12, UH-12A, UH-12B, UH-12C, UH-12D, UH-12E, UH-12E-L, UH-12L, UH-12L4 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required at the next annual inspection or within 12 months, whichever occurs first, unless accomplished previously.

To prevent separation of the control system attachments at pivoting points and subsequent loss of control of the helicopter, accomplish the following:

(a) Replace all undrilled-shank bolts at pivoting joints in the control system linkage with drilled-shank bolts, and install castellated nuts and cotter pins in accordance with Hiller Aircraft Corporation Service Bulletin No. 10-4, Revision 2, dated December 20, 1999.

(b) An alternative method of compliance or adjustment of the compliance time that provides an acceptable level of safety may be used if approved by the Manager, Los Angeles Aircraft Certification Office, FAA. Operators shall submit their requests through an FAA Principal Maintenance Inspector, who may concur or comment and then send it to the Manager, Los Angeles Aircraft Certification Office.

Note 2: Information concerning the existence of approved alternative methods of compliance with this AD, if any, may be obtained from the Los Angeles Aircraft Certification Office.

(c) Special flight permits may be issued in accordance with sections 21.197 and 21.199 of the Federal Aviation Regulations (14 CFR 21.197 and 21.199) to operate the helicopter to a location where the requirements of this AD can be accomplished.

(d) The installation of castellated nuts and cotter pins shall be done in accordance with Hiller Aircraft Corporation Service Bulletin No. 10-4, Revision 2, dated December 20, 1999. This incorporation by reference was approved by the Director of the Federal Register in accordance with 5 U.S.C. 552(a) and 1 CFR part 51. Copies may be obtained from Hiller Aircraft Corporation, 3200 Imjin Road, Marina, California 93933-5101, telephone (408) 384-4500, fax (408) 384-3100. Copies may be inspected at the FAA, Office of the Regional Counsel, Southwest Region, 2601 Meacham Blvd., Room 663, Fort Worth, Texas; or at the Office of the Federal Register, 800 North Capitol Street, NW., suite 700, Washington, DC.

(e) This amendment becomes effective on January 10, 2001.

Issued in Fort Worth, Texas, on November 14, 2000.
Michele M. Owsley,
Acting Manager, Rotorcraft Directorate, Aircraft Certification Service.

[FR Doc. 00-30652 Filed 12-5-00; 8:45 am]

BILLING CODE 4910-13-U